DEPARTMENT OF LABOR

Employment and Training Administration

[TA-W-60,876 and TA-W-60,876B]

Armstrong Wood Products, Inc., Armstrong Hardwood Flooring Company, Parquet Flooring Department and Pattern Plus Flooring Department, Oneida, TN; Notice of Revised Determination on Reconsideration; Correction

ACTION: Notice; correction.

SUMMARY: The Department of Labor, Employment and Training Administration published a document in the Federal Register on June 14, 2007, concerning a Notice of Revised Determination on Reconsideration. The document contained an incorrect date.

Correction.

In the Federal Register of June 14, 2007, in FR Doc. E7-11479, on page 32914, in the third column, correct the “text” caption to read:

All workers of Armstrong Wood Products, Inc., Armstrong Hardwood Flooring Company, Parquet Flooring Department, Oneida, Tennessee [TA-W-60,876], who became totally or partially separated from employment on or after March 17, 2007 through two years from the date of this certification, are eligible to apply for adjustment assistance under Section 223 of the Trade Act of 1974, are also eligible to apply for alternative trade adjustment assistance under Section 246 of the Trade Act of 1974.

and

All workers of Armstrong Wood Products, Inc., Armstrong Hardwood Flooring Company, Pattern Plus Flooring Department, Oneida, Tennessee [TA-W-60,876B], who became totally or partially separated from employment on or after January 31, 2006 through two years from the date of this certification, are eligible to apply for adjustment assistance under Section 223 of the Trade Act of 1974, and are also eligible to apply for alternative trade adjustment assistance under Section 246 of the Trade Act of 1974.

Signed in Washington DC this 27th day of June 2007.
Elliott S. Kushner,
Certifying Officer, Division of Trade Adjustment Assistance.

[FR Doc. E7-12911 Filed 7-3-07; 8:45 am]

BILLING CODE 4510-FN-P